FEDERAL COMMUNICATIONS COMMISSION

[CC Docket No. 92-237; DA 20-301; FRS 16593]

Next Meeting of the North American Numbering Council

AGENCY: Federal Communications Commission.

ACTION: Notice.

SUMMARY: In this document, the Commission released a public notice announcing the meeting of the North American Numbering Council (NANC), which will be held via conference call and available to the public via live internet feed.

DATES: Tuesday, May 5, 2020. The meeting will come to order at 9:30 a.m.

ADDRESSES: The Meeting will be held via conference call and open to the public on the internet via live feed from the FCC's web page at http://www.fcc.gov/live.

FOR FURTHER INFORMATION CONTACT: Marilyn Jones, Designated Federal Officer (DFO) of the NANC, at marilyn.jones@fcc.gov or 202-418-2357 and Jordan Reth, Deputy DFO, at jordan.reth@fcc.gov or 202-418-1418. More information about the NANC is available at https://www.fcc.gov/about-fcc/advisory-committees/general/north-american-numbering-council.

SUPPLEMENTARY INFORMATION: The NANC meeting is open to the public on the internet via live feed from the FCC's web page at http://www.fcc.gov/live. Open captioning will be provided for this event. Other reasonable accommodations for people with disabilities are available upon request. Requests for such accommodations should be submitted via email to fcc504@fcc.gov or by calling the Consumer & Governmental Affairs Bureau at (202) 418-0530 (voice), (202) 418-0432 (TTY). Such requests should include a detailed description of the accommodation needed. In addition, please include a way for the FCC to contact the requester if more information is needed to fill the request. Please allow at least five days' advance notice for accommodation requests; last minute requests will be accepted but may not be possible to accommodate. Oral statements at the meeting by parties or entities not represented on the NANC will be permitted to the extent time permits, at the discretion of the NANC Chair and the DFO. Members of the public may submit comments to the NANC in the FCC's Electronic Comment Filing System, ECFS, at www.fcc.gov/ecfs. Comments to the NANC should be filed in CC Docket No. 92-237. This is a summary of the Commission's document in CC Docket No. 92-237, DA 20-301 released March 19, 2020.

Proposed Agenda: At this meeting the NANC will receive status reports and updates from all of its working groups: Numbering Administration Oversight, Toll Free Number Assignment Modernization, Nationwide Number Portability, Interoperable Video Conferencing, and Call Authentication Trust Anchor. This agenda may be modified at the discretion of the NANC Chair and the Designated Federal Officer (DFO).

Federal Communications Commission.
Daniel Kahn,
Associate Bureau Chief, Wireline Competition Bureau.

[FR Doc. 2020-06945 Filed 4-2-20; 8:45 am]

BILLING CODE 6712-01-P